DEPARTMENT OF ENERGY

Federal Energy Regulatory Commission

[Docket No. CP15-41-001]

Equitrans, L.P.; Notice of Filing

Take notice that on May 5, 2015, Equitrans, L.P. (Equitrans) filed an amendment, pursuant to section 7(c) of the Natural Gas Act and Part 157 of the Commission's Regulations, for the Ohio Valley Connector Project in West Virginia, and Ohio. The application of the project was originally filed on December 30, 2014 in Docket No. CP15-41-000. The amended filing may be viewed on the web at http://www.ferc.gov using the “eLibrary” link. Enter the docket number excluding the last three digits in the docket number field to access the document. For assistance, contact FERC at FERCOnlineSupport@ferc.gov or call toll-free, (886) 208-3676 or TYY, (202) 502-8659.

Any questions regarding this application should be directed to Paul W. Diehl, Senior Counsel, Midstream, Equitrans, L.P., 625 Liberty Avenue, Suite 1700, Pittsburgh, PA 15222. Telephone (412) 395-5540, fax (412) 553-7781, and email: pdiehl@eqt.com.

Equitrans states that after filing the original application, Equitrans has continued working with landowners and other interested parties with respect to the route of the pipeline and the specific facilities that will be necessary. Also, after discussions with a proposed shipper, Equitrans has determined that the proposed H-313 pipeline will not be required to provide the firm transportation service. To accommodate this change, Equitrans proposes to eliminate the H-313 pipeline from the scope of the project. The H-313 pipeline is approximately 14.0 miles and 24-inch diameter. Equitrans also proposes four minor re-routes of the proposed H-310 pipeline and changes of facilities. The amendment does not affect the Ohio Valley Connector Project's designed capacity of 850 MMcf/day.

There are two ways to become involved in the Commission's review of this project. First, any person wishing to obtain legal status by becoming a party to the proceedings for this project should, on or before the comment date stated below, file with the Federal Energy Regulatory Commission, 888 First Street NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 5 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commenters will be placed on the Commission's environmental mailing list, will receive copies of any mailed environmental documents, and will be notified of any meetings associated with the Commission's environmental review process. Environmental commenters will not be required to serve copies of filed documents on all other parties. However, the non-party commenters will not receive copies of all documents filed by other parties or issued by the Commission (except for the mailing of environmental documents issued by the Commission) and will not have the right to seek court review of the Commission's final order.

Motions to intervene, protests and comments may be filed electronically via the Internet in lieu of paper; see, 18 CFR 385.2001(a)(1)(iii) and the instructions on the Commission's Web site under the “e-Filing” link. The Commission strongly encourages electronic filings.

Comment Date: 5:00 p.m. Eastern Time on June 2, 2015.

Dated: May 12, 2015.
Kimberly D. Bose,
Secretary.

[FR Doc. 2015-11921 Filed 5-15-15; 8:45 am]

BILLING CODE 6717-01P